DEPARTMENT OF TRANSPORTATION

Office of the Secretary

[Docket No. DOT-OST-2007-0108]

National Task Force to Develop Model Contingency Plans to Deal With Lengthy Airline On-Board Ground Delays

AGENCY: Office of the Secretary (OST), Department of Transportation (DOT).

ACTION: Notice of membership and first meeting of advisory committee.

SUMMARY: This notice announces the membership and the first meeting of the National Task Force to Develop Model Contingency Plans to Deal with Lengthy Airline On-Board Ground Delays.

DATES: The first meeting of the Task Force is scheduled for February 26, 2008, from 8:30 a.m. to 5 p.m., Eastern Time.

ADDRESSES: The first meeting of the Task Force will be held at the U.S. Department of Transportation (U.S. DOT), 1200 New Jersey Avenue, SE., Washington, DC, in the Oklahoma City Conference Room on the lobby level of the West Building.

FOR FURTHER INFORMATION OR TO CONTACT THE DEPARTMENT CONCERNING THE TASK FORCE: Livaughn Chapman, Jr., or Kathleen Blank-Riether, Office of the General Counsel, U.S. Department of Transportation, 1200 New Jersey Ave., SE., W-96-429, Washington, DC 20590-0001; Phone: (202) 366-9342; Fax: (202) 366-7152; E-mail: Livaughn.Chapman@dot.gov, or Kathleen.Blankriether@dot.gov.

SUPPLEMENTARY INFORMATION:

Background

DOT's Office of Inspector General recommended, in its audit report, entitled “Actions Needed to Minimize Long, On-Board Flight Delays,” issued on September 25, 2007, that the Secretary of Transportation establish a national task force of airlines, airports, and the Federal Aviation Administration to coordinate and develop contingency plans to deal with lengthy delays, such as working with carriers and airports to share facilities and make gates available in an emergency.

To effectuate this recommendation, the Department published a notice of intent to form an advisory committee in the Federal Register on December 20, 2007 (72 FR 72435). This notice, consistent with the requirements of the Federal Advisory Committee Act (FACA), 5 U.S.C. App. 2, announced the establishment of the Task Force and invited comments, as well as nominations and applications for membership. The Task Force Charter is attached as Appendix 1.

A total of thirty-four (34) applications/nominations for membership on the Task Force were submitted to the docket. In selecting the members of the Task Force, the Department attempted to achieve a balanced membership representing a broad cross-section of the diverse agencies, organizations and individuals that represent airlines, airports, consumer groups and other interested entities in the United States. We also contacted some organizations that had not submitted an application for membership by the January 4 deadline, but whose membership in the Task Force we believed would be beneficial, to encourage their participation. The Secretary of Transportation has now named the members of the Task Force, and their names are listed below as Appendix 2 to this notice. In addition to the Task Force members named by the Secretary, individuals from the Department of Homeland Security, the Federal Aviation Administration, and the Office of the Secretary will participate in the Task Force as non-member participants.

As noted above, the first meeting of the Task Force will take place on February 26, 2008. The agenda topics for the first meeting will include: (1) Orientation about the Federal Advisory Committee Act procedures and the purpose of the task force; (2) an introduction of the issues and discussion of contingency plans, and (3) establishment of working groups. A period of time for public comments, if any, will also be provided.

The Department anticipates that the Task Force will meet at least three additional times in 2008. It is anticipated that all meetings will be held in Washington, DC at the U.S. DOT headquarters building. The Department will publish notices in the Federal Register to announce the dates, times, and locations of future meetings. Meetings of the Task Force are open to the public, and time will be provided for comments by members of the public. Since access to the U.S. DOT headquarters building is controlled for security purposes, any member of the general public who plans to attend the first meeting must notify the Department contact noted above ten (10) calendar days prior to the meeting. Attendance will be necessarily limited by the size of the meeting room.

Members of the public may present written comments at any time and, at the discretion of the Chairman and time permitting, oral comments at the meeting. Any oral comments permitted must be limited to agenda items and will be limited to five (5) minutes per person. Members of the public who wish to present oral comments must notify the Department contact noted above via e-mail that they wish to attend and present oral comments at least ten (10) calendar days prior to the meting. For this February 20 meeting, no more than one hour will be set aside for oral comments. Although written material may be filed in the docket at any time, comments regarding upcoming meeting topics should be sent to the Task Force docket, (10) calendar days prior to the meeting. Members of the public may also contact the Department contact noted above to be placed on the Task Force mailing list.

Persons with a disability requiring special accommodations, such as an interpreter for the hearing impaired, should contact the Department contact noted above at least seven (7) calendar days prior to the meeting.

Notice of this meeting is provided in accordance with the FACA and the General Services Administration regulations covering management of Federal advisory committees. (41 CFR part 102-3.)

Conclusion

The First Meeting of the National Task force to Develop Model Contingency Plans to Deal with Lengthy Airline On-Board Ground Delays will be held on February 26, 2008, from 8:30 a.m. to 5 p.m., Eastern Time, at the U.S. Department of Transportation, 1200 New Jersey Avenue, SE., Washington, DC, in the Oklahoma City Conference Room on the lobby level of the West Building.

Issued on: February 5, 2008.
Samuel Podberesky,
Assistant General Counsel for Aviation Enforcement & Proceedings, U.S. Department of Transportation.

Appendix 1—Charter for the National Task Force to Develop Model Contingency Plans to Deal With Lengthy Airline On-Board Ground Delays

Federal Advisory Committee Charter

National Task Force to Develop Model Contingency Plans to Deal with Lengthy Airline On-Board Ground Delays

U.S. Department of Transportation

1. Purpose: This charter establishes the National Task Force to Develop Model Contingency Plans to Deal with Lengthy Airline On-Board Ground Delays pursuant to the Federal Advisory Committee Act (FACA), as amended, 5 U.S.C., App. 2, and sets forth policies for its operations.

2. Scope and Objectives:

a. The Task Force will develop model contingency plans for minimizing the impact of lengthy airline on-board ground delays.

b. The Task Force will be responsible for reviewing incidents involving long, on-board ground delays and their causes; identifying trends and patterns of such events; and recommending workable solutions for mitigating the on-board consumer impact of extraordinary flight disruptions.

c. The Task Force will report to the Secretary of Transportation the results of its consideration and a description of model contingency plans it develops.

d. The Task Force will not exercise program management, regulatory or program guidance responsibilities. It will make no decision directly affecting the programs on which it provides advice. The Task Force will provide a forum for the development, consideration, and communication from a knowledgeable and independent perspective of a strategy for dealing with lengthy on-board ground delays nationwide.

3. Duties: The Task Force will carry out the following tasks:

a. Develop model contingency plans to deal with lengthy air carrier on-board delays.

b. Review incidents involving long, on-board ground delays and their causes; identify trends and patterns of such events; and recommend workable solutions for mitigating the on-board consumer impact of extraordinary flight disruptions.

c. Review existing airline and airport contingency plans for extended tarmac delays for best practices.

d. Report to the Secretary of Transportation the results of its consideration and a description of the model contingency plans developed.

4. Duration: The Task Force will remain in existence for 1 year from the effective date of this charter, unless recommended for termination or renewal by the Secretary of Transportation.

5. Official to Whom the Task Force Reports: The Task Force will report to the Secretary of Transportation through the sponsor.

6. Sponsor and Agency Providing Support: The Office of the General Counsel serves as sponsor of the Task Force and has designated the Assistant General Counsel for Aviation Enforcement and Proceedings as the Designated Federal Official and Chairman of the Task Force. The Sponsor has designated the Federal Aviation Administration's Associate Administrator for Airports as the Vice Chairman of the Task Force. The Chairman of the Task Force will direct the affairs of the Task Force and will provide necessary administrative support, as required by the Federal Advisory Committee Act. At the request of the Chairman, the Vice Chairman will perform these duties.

7. Delegation: The Chairman is delegated the authority to require special reports under 49 U.S.C. 41708 to effectuate the duties of the Task Force. The Chairman is also delegated the authority to issue Federal Register notices regarding the workings of the Task Force.

8. Membership:

a. The Task Force will be composed of individuals appointed by the Secretary of Transportation. Task Force members will be Regular Government Employees and Representatives of airlines, airports and consumer groups in the U.S.

b. Nonparticipation by any member in Task Force activities will be sufficient reason for the appointment of a replacement member by the Secretary of Transportation.

c. The Task Force will ensure that the public is able to present its views to the Task Force in accordance with the Federal Advisory Committee Act.

9. Task Force Officers: The Chairman will conduct each meeting using generally accepted meeting management techniques, provide an opportunity for participation by each member and by public attendees, ensure adherence to the agenda, maintain order, and prepare any recommendations to be submitted to the Secretary of Transportation. At the request of the Chairman, the Vice Chairman will perform these duties.

10. Meetings:

a. Meetings will be held at the call of or with the advance approval of the Designated Federal Official. The Task Force will meet approximately 4 times the first year in Washington, DC. Special meetings and working group meetings may be called as necessary. Notice of each scheduled meeting will be published in the Federal Register.

b. All meetings will be open to the public. Members of the public will be permitted to appear before or file statements with the Task Force. The Designated Federal Official must be present at each Task Force meeting. The official has the authority to adjourn the meeting whenever such action is deemed to be in the public interest. A quorum exists when at least one-half of the appointed members are present. A quorum must exist for any official action, including voting, to occur. In any situation involving voting, the majority vote of members present will prevail. An agenda for each meeting must be approved in advance by the Designated Federal Official.

11. Compensation: Members of the Task Force are responsible for their own travel and per diem expenses.

12. Costs: Operating expenses are borne by the Task Force Sponsor. The estimated annual cost to the government is $20,000 inclusive of support, report writing, meeting costs, travel, and other logistics.

13. Availability of Records: Pursuant to Section 552 of Title 5, United States Code, the records, reports, minutes, agenda, and other documents made available to or by the Task Force will be available for public inspection and duplication in the Office of the Secretary of Transportation. A docket will be established for this Task Force to accomplish this result. To the extent that there is a discussion of issues concerning on-going rulemaking proceedings during a Task Force meeting, the minutes of that meeting will be placed in the appropriate docket.

14. Reports: The Designated Federal Official will furnish detailed minutes of each meeting to the Sponsor. The minutes contain a record of the persons present, a complete and accurate description of matters discussed and conclusions reached, and copies of all reports received, issued, or approved by the Task Force. The Chairman will certify the accuracy of the minutes.

15. Working Groups:

a. The Task Force may establish working groups to perform specific assignments with the approval of the Designated Federal Official. The Chairman may designate members from either the Task Force or the public to serve on working groups. Any Working Group Chairman will be a Task Force member. Recording or videotaping of working group meetings may be performed only with the Designated Federal Official's approval.

b. Any recommendations to the Department by working groups are subject to approval by the Task Force as a whole.

16. Filing Date: January 3, 2008 is the filing date and the effective date of this charter which will expire 1 year from this filing date, unless sooner terminated or extended.

Appendix 2—Membership of the National Task Force to Develop Model Contingency Plans to Deal With Lengthy On-Board Ground Delays

Samuel Podberesky, Chairman, Assistant General Counsel for Aviation Enforcement and Proceedings, U.S. Department of Transportation.

D. Kirk Shaffer, Vice Chairman, Associate Administrator for Airports, Federal Aviation Administration.

Basil Barimo, Vice President, Operations and Safety, Air Transport Association.

Brian Bartal, Project Manager, American Eagle Airlines.

Roger Cohen, President, Regional Airline Association.

Michael C. Collins, Disability Rights Advocate.

James M. Crites, Executive Vice President, Operations, Dallas/Fort Worth International Airport.

Benjamin R. DeCosta, Aviation General Manager, Hartsfield-Jackson International Airport.

George F. Doughty, Executive Director, Lehigh-Northampton Airport Authority.

Charles M. Durham, III, Sr. Manager of Dispatch, ExpressJet Airlines.

Edward P. Faberman, Executive Director, Air Carrier Association of America.

James J. Gaydos, Director, Airport Services, American Airlines.

Kate Hanni, Founder/Spokesperson, Coalition for an Airline Passengers' Bill of Rights.

Steve Hozdulick, Senior Director—Operational Performance, Southwest Airlines.

Kevin Hudson, Senior Manager, Operational Performance, Tracking and Reporting, Frontier Airlines.

William R. Lange, Vice President, Safety & Compliance, Compass Airlines.

Douglas E. Lavin, Regional Vice President, International Air Transport Association—North America.

Tony Lefebvre, Senior Vice President—Customer Service, Spirit Airlines.

D. Leo Malloy, Jr., Vice President, Customer Service, Skyway Airlines/Midwest Connect.

Alex Marren, Vice President, Operational Services, United Airlines.

Deborah C. McElroy, Executive Vice President, Policy and External Affairs, Airports Council International—North America.

Robert K. Muhs, Vice President, System Operations Control, Northwest Airlines.

Patrick V. Murphy, Aviation Consultant, representing U.S. Airways.

Capt. Larry Newman, Chairman, Air Traffic Service Group, Air Line Pilots Association, International.

Bradley, D. Penrod, CEO/Executive Director, Allegheny County Airport Authority.

Paul. M. Ruden, Senior Vice President, Legal and Industry Affairs, American Society of Travel Agents.

Daniel Rutenberg, Vice President, International Airline Passengers Association.

Melissa Sabatine, Vice President of Regulatory Affairs, American Association of Airport Executives.

Leo J. Schefer, President, Washington Airports Task Force.

Lysa C. Scully, Assistant Director, Customer, Cargo, Concessions and Airport Services, the Port Authority of New York and New Jersey.

Jim Tabor, Vice President of Operations, AirTran Airways.

Daniel A. Weiss, Managing Director, International Policy and Regulatory Affairs, Continental Airlines.

Warren R. Wilkinson, Vice President of Government Affairs and Corporate Communications, Republic Airways.

William H. Williams, Jr., Aviation Director, North Carolina Department of Transportation.

Thomas E. Zoeller, President and CEO, National Air Carrier Association.

[FR Doc. E8-2459 Filed 2-8-08; 8:45 am]

BILLING CODE 4910-9X-P